DEPARTMENT OF TRANSPORTATION

National Highway Traffic Safety Administration

[Docket No. NHTSA-2012-0061]

Highway Safety Programs; Conforming Products List of Evidential Breath Alcohol Measurement Devices

AGENCY: National Highway Traffic Safety Administration, Department of Transportation.

ACTION: Notice.

SUMMARY: This notice updates the Conforming Products List (CPL) published in the Federal Register on March 11, 2010 (75 FR 11624) for instruments that conform to the Model Specifications for Evidential Breath Alcohol Measurement Devices dated, September 17, 1993 (58 FR 48705).

DATES: Effective Date: June 14, 2012.

FOR FURTHER INFORMATION CONTACT: For technical issues: Ms. De Carlo Ciccel, Behavioral Research Division, NTI-131, National Highway Traffic Safety Administration, 1200 New Jersey Avenue SE., Washington, DC 20590; Telephone; (202) 366-1694. For legal issues: Ms. Jin Kim, Office of Chief Counsel, NCC-113, National Highway Traffic Safety Administration, 1200 New Jersey Avenue SE., Washington, DC 20590; Telephone: (202) 366-1834.

SUPPLEMENTARY INFORMATION: On November 5, 1973, the National Highway Traffic Safety Administration (NHTSA) published the Standards for Devices to Measure Breath Alcohol (38 FR 30459). A Qualified Products List of Evidential Breath Measurement Devices comprised of instruments that met this standard was first issued on November 21, 1974 (39 FR 41399).

On December 14, 1984 (49 FR 48854), NHTSA converted this standard to Model Specifications for Evidential Breath Testing Devices (Model Specifications), and published a Conforming Products List (CPL) of instruments that were found to conform to the Model Specifications as Appendix D to that notice. Those instruments are identified on the CPL with an asterisk.

On September 17, 1993, NHTSA published a notice to amend the Model Specifications (58 FR 48705) and to update the CPL. That notice changed the alcohol concentration levels at which instruments are evaluated, from 0.000, 0.050, 0.101, and 0.151 BAC, to 0.000, 0.020, 0.040, 0.080, and 0.160 BAC, respectively. It also included a test for the presence of acetone and an expanded definition of alcohol to include other low molecular weight alcohols, e.g., methyl or isopropyl. Since that time, the CPL has been annotated to indicate which instruments have been determined to meet the Model Specifications published in 1984, and which have been determined to meet the Model Specifications, as revised and published in 1993. Thereafter, NHTSA has periodically updated the CPL with those breath instruments found to conform to the Model Specifications. The most recent update to the CPL was published March 11, 2010 (75 FR 11624).

The CPL published today adds nine (9) new instruments that have been evaluated and found to conform to the Model Specifications, as amended on September 17, 1993 for mobile and non-mobile use. One instrument is distributed by two different companies, so it has been listed twice, for a total of ten (10) new entries on this CPL. In alphabetical order by company, they are:

(1) The “SAF'IR Evolution” manufactured by Alcohol Countermeasure Systems Corp. Toronto, Ontario, Canada. This is a hand-held instrument intended for use in stationary or mobile operations. It uses an infrared sensor and powered by internal batteries.

(2) The “Intoxilyzer 600” manufactured by CMI, Inc., Owensboro, Kentucky. This is a hand-held instrument intended for use in stationary or mobile operations. It uses a fuel cell sensor and powered by an internal battery. The Intoxilyzer 600 is also distributed as the Alcolmeter 600 by Lion Laboratories outside the U.S., so it has been listed twice on the CPL, once under each of its distributors/manufacturers.

(3) The “Guth 38” manufactured by Guth Laboratories, Inc., Harrisburg, Pennsylvania. This is a hand-held instrument intended for use in stationary or mobile operations. It uses a fuel cell sensor and is powered by internal batteries.

(4) The “Alco-Sensor V XL” manufactured by Intoximeters, Inc., St. Louis, Missouri. This is a hand-held instrument intended for use in stationary or mobile operations. It uses a fuel cell sensor and is powered by internal batteries.

(5) The “LifeGuard Pro” manufactured by Lifeloc Technologies, Inc., Wheat Ridge, Colorado. This is a hand-held instrument intended for use in stationary or mobile operations. It uses a fuel cell sensor and is powered by internal batteries.

(6) The “DataMaster DMT with fuel cell option series number (SN) 555555” and the “DataMaster DMT with fuel cell option series number (SN) 100630” manufactured by National Patent Analytical Systems, Inc., Mansfield, Ohio. These instruments can be used in stationary and mobile operations. These instruments use both infrared and fuel cell sensors. These instruments can be powered by either 110 volts alternate current or 12 volts direct current.

(7) The “Alcovisor Jupiter” and the “Alcovisor Mercury” manufactured by PAS International, Fredericksburg, Virginia. These are hand-held instruments intended for use in stationary or mobile operations. Both instruments use a fuel cell sensor and are powered by internal batteries.

This update also removes four (4) instruments no longer supported by the manufacturer and makes one minor change.

The following instruments (PBA 3000 B, PBA 3000-P, PBA 3000 C and Alcohol Data Sensor), manufactured by Lifeloc Technologies, Inc., Wheat Ridge, Colorado, are being removed from the CPL because these instruments were determined to be obsolete. These instruments are no longer manufactured, in use or being maintained by the manufacturer.

The minor change includes a change of address for Alcohol Countermeasure Systems Corp., from Mississauga, Ontario, Canada to Toronto, Ontario, Canada.

In accordance with the foregoing, the CPL is updated, as set forth below.

Conforming Products List of Evidential Breath Measurement Devices
Manufacturer/distributor and model | Mobile | Nonmobile
Alcohol Countermeasure Systems Corp., Toronto, Ontario, Canada:
Alert J3AD * | X | X
Alert J4X.ec | X | X
PBA3000C | X | X
SAF'IR Evolution | X | X
BAC Systems, Inc., Ontario, Canada:
Breath Analysis Computer * | X | X
CAMEC Ltd., North Shields, Tyne and Ware, England:
IR Breath Analyzer * | X | X
CMI, Inc., Owensboro, Kentucky:
Intoxilyzer Model:
200 | X | X
200D | X | X
240 (aka: Lion Alcolmeter 400+ outside the U.S.) | X | X
300 | X | X
400 | X | X
400PA | X | X
600 (aka: Lion Alcolmeter 600 outside the U.S.) | X | X
1400 | X | X
4011 * | X | X
4011A * | X | X
4011AS * | X | X
4011AS-A * | X | X
4011AS-AQ * | X | X
4011 AW * | X | X
4011A27-10100 * | X | X
4011A27-10100 with filter * | X | X
5000 | X | X
5000 (w/Cal. Vapor Re-Circ.) | X | X
5000 (w/⅜″ ID Hose option) | X | X
5000CD | X | X
5000CD/FG5 | X | X
5000EN | X | X
5000 (CAL DOJ) | X | X
5000VA | X | X
8000 | X | X
PAC 1200 * | X | X
S-D2 | X | X
S-D5 (aka: Lion Alcolmeter SD-5 outside the U.S.) | X | X
Draeger Safety, Inc. (aka: National Draeger) Irving, Texas:
Alcotest Model:
6510 | X | X
6810 | X | X
7010 * | X | X
7110 * | X | X
7110 MKIII | X | X
7110 MKIII-C | X | X
7410 | X | X
7410 Plus | X | X
7510 | X | X
9510 | X | X
Breathalyzer Model:
900 | X | X
900A * | X | X
900BG * | X | X
7410 | X | X
7410-II | X | X
EnviteC by Honeywell GmbH, Fond du Lac, Wisconsin:
AlcoQuant 6020 | X | X
Gall's Inc., Lexington, Kentucky:
Alcohol Detection System—A.D.S. 500 | X | X
Guth Laboratories, Inc., Harrisburg, Pennsylvania:
Alcotector BAC-100 | X | X
Alcotector C2H5OH | X | X
Guth 38 | X | X
Intoximeters, Inc., St. Louis, Missouri:
Photo Electric Intoximeter * |  | X
GC Intoximeter MK II * | X | X
GC Intoximeter MK IV * | X | X
Auto Intoximeter * | X | X
Intoximeter Model:
3000 | X | X
3000 (rev B1) * | X | X
3000 (rev B2) * | X | X
3000 (rev B2A) * | X | X
3000 (rev B2A) w/FM option * | X | X
3000 (Fuel Cell) * | X | X
3000 D * | X | X
3000 DFC * | X | X
Alcomonitor |  | X
Alcomonitor CC | X | X
Alco-Sensor III | X | X
Alco-Sensor III (Enhanced with Serial Numbers above 1,200,000) | X | X
Alco-Sensor IV | X | X
Alco-Sensor IV XL | X | X
Alco-Sensor V | X | X
Alco-Sensor V XL | X | X
Alco-Sensor AZ | X | X
Alco-Sensor FST | X | X
Intox EC/IR | X | X
Intox EC/IR II | X | X
Intox EC/IR II (Enhanced with serial number 10,000 or higher) |  | X
Portable Intox EC/IR | X | X
RBT-AZ | X | X
RBT-III | X | X
RBT III-A | X | X
RBT IV | X | X
RBT IV with CEM (cell enhancement module) | X | X
Komyo Kitagawa, Kogyo, K.K., Japan:
Alcolyzer DPA-2 * | X | X
Breath Alcohol Meter PAM 101B * | X | X
Lifeloc Technologies, Inc., (formerly Lifeloc, Inc.), Wheat Ridge, Colorado:
LifeGuard Pro | X | X
Phoenix | X | X
Phoenix 6.0 | X | X
EV 30 | X | X
FC 10 | X | X
FC 20 | X | X
Lion Laboratories, Ltd., Cardiff, Wales, United Kingdom:
Alcolmeter Model:
300 | X | X
400 | X | X
400+ (aka: Intoxilyzer 240 in the U.S.) | X | X
600 (aka: Intoxilyzer 600 in the U.S.) | X | X
SD-2 * | X | X
SD-5 (aka: S-D5 in the U.S.) | X | X
EBA * | X | X
Intoxilyzer Model:
200 | X | X
200D | X | X
1400 | X | X
5000 CD/FG5 | X | X
5000 EN | X | X
Luckey Laboratories, San Bernardino, California:
Alco-Analyzer Model:
1000 * |  | X
2000 * |  | X
Nanopuls AB, Uppsala, Sweden:
Evidenzer | X | X
National Patent Analytical Systems, Inc., Mansfield, Ohio:
BAC DataMaster (with or without the Delta-1 accessory) | X | X
BAC Verifier DataMaster (w/ or without the Delta-1 accessory) | X | X
DataMaster cdm (w/ or without the Delta-1 accessory) | X | X
DataMaster DMT | X | X
DataMaster DMT w/ Fuel Cell option SN: 555555 | X | X
DataMaster DMT w/ Fuel Cell option SN: 100630 | X | X
Omicron Systems, Palo Alto, California:
Intoxilyzer Model:
4011 * | X | X
4011AW * | X | X
PAS International, Fredericksburg, Virginia:
Mark V Alcovisor | X | X
Alcovisor Jupiter | X | X
Alcovisor Mercury | X | X
Plus 4 Engineering, Minturn, Colorado:
5000 Plus 4 * | X | X
Seres, Paris, France:
Alco Master | X | X
Alcopro | X | X
Siemans-Allis, Cherry Hill, New Jersey:
Alcomat * | X | X
Alcomat F * | X | X
Smith and Wesson Electronics, Springfield, Massachusetts:
Breathalyzer Model:
900 * | X | X
900A * | X | X
1000 * | X | X
2000 * | X | X
2000 (non-Humidity Sensor) * | X | X
Sound-Off, Inc., Hudsonville, Michigan:
AlcoData | X | X
Seres Alco Master | X | X
Seres Alcopro | X | X
Stephenson Corp.:
Breathalyzer 900 * | X | X
Tokai-Denshi Inc., Tokyo, Japan:
ALC-PRO II (U.S.) | X | X
U.S. Alcohol Testing, Inc./Protection Devices, Inc., Rancho Cucamonga, California:
Alco-Analyzer 1000 |  | X
Alco-Analyzer 2000 |  | X
Alco-Analyzer 2100 | X | X
Verax Systems, Inc., Fairport, New York:
BAC Verifier * | X | X
BAC Verifier Datamaster | X | X
BAC Verifier Datamaster II * | X | X
*Instruments marked with an asterisk (*) meet the Model Specifications detailed in 49 FR 48854 (December 14, 1984) (i.e., instruments tested at 0.000, 0.050, 0.101, and 0.151 BAC). Instruments not marked with an asterisk meet the Model Specifications detailed in 58 FR 48705 (September 17, 1993), and were tested at BACs = 0.000, 0.020, 0.040, 0.080, and 0.160. All instruments that meet the Model Specifications currently in effect (dated September 17, 1993) also meet the Model Specifications for Screening Devices to Measure Alcohol in Bodily Fluids.

Authority: 23 U.S.C. 403; 49 CFR 1.50; 49 CFR part 501.

Issued on: June 11, 2012.
Jeff Michael,
Associate Administrator, Research and Program Development, National Highway Traffic Safety Administration.

[FR Doc. 2012-14581 Filed 6-13-12; 8:45 am]

BILLING CODE 4910-59-P